FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

WS Project Services, Inc., 16800 Imperial Valley Drive, #374, Houston, TX 77060, Officers: Yan Wang, Vice President, (Qualifying Individual), Liang Yan, President.

Art Van Lines USA, Inc., 501 Penhorn Ave., Unit 2, Secaucus, NJ 07094, Officer: Shinichi Hada, Secretary, (Qualifying Individual).

Dolphin Logistics, Inc. dba ASL Logistics USA, 2440 S. Hacienda Blvd., #101, Hacienda Heights, CA 91745, Officer: Kenny I. Tsal, CEO, (Qualifying Individual).

Ocean Freight Forwarder—Ocean Transportation Intermediary Applicant

Sunship International Acquisitions Incorporated dba Global Bridge Imports Exports, Inc., 6815 W. 95th Street, Suite #1, Oaklawn, IL 60453, Officer: Andrew Krzeptowski, President, (Qualifying Individual).

Bermol, Inc. dba Molcan Freight Forwarding Services, 13501 SW. 16 Court, Davie, FL 33325, Officer: Brenton J. King, President, (Qualifying Individual).

Dated: January 16, 2009.
Karen V. Gregory,
Secretary.

[FR Doc. E9-1500 Filed 1-22-09; 8:45 am]

BILLING CODE 6730-01-P